FEDERAL HOUSING FINANCE AGENCY

Proposed Collection; Comment Request

AGENCY: Federal Housing Finance Agency.

ACTION: 60-day Notice of Submission of Information Collection for Approval from Office of Management and Budget.

SUMMARY: In accordance with the requirements of the Paperwork Reduction Act of 1995, the Federal Housing Finance Agency (FHFA) is seeking public comments concerning the information collection known as “Advances to Housing Associates,” which has been assigned control number 2590-0001 by the Office of Management and Budget (OMB). Pending OMB approval of an emergency extension request, a regular clearance request for OMB review and approval of a three-year extension of the control number is also beginning. OMB approval has been requested by December 31, 2008, the date of expiration.

DATES: Interested persons may submit comments on or before February 27, 2009.

ADDRESSES: Submit comments to the FHFA using any one of the following methods:

E-mail: RegComments@fhfa.gov.

Fax: (202) 408-2580.

Mail/Hand Delivery: Federal Housing Finance Agency, Fourth Floor, 1700 G Street, NW., Washington DC 20552, ATTENTION: Public Comments/Proposed Collection; Comment Request: Advances to Housing Associates.

Federal eRulemaking Portal: http://www.regulations.gov. Follow the instructions for submitting comments. If you submit your comment to the Federal eRulemaking Portal, please also send it by e-mail to the FHFA at regcomments@fhfa.gov to ensure timely receipt by the agency. Include the following information in the subject line of your submission: Federal Housing Finance Agency. Proposed Collection; Comment Request: Advances to Housing Associates.

We will post all public comments we receive without change, including any personal information you provide, such as your name and address, on the FHFA Web site at http://www.fhfa.gov/Default.aspx?Page=89.

FOR FURTHER INFORMATION CONTACT: Jonathan F. Curtis, Senior Financial Analyst, by e-mail at jonathan.curtis@fhfa.gov, by telephone at (202) 408-2866, or by regular mail at the Federal Housing Finance Agency, 1625 Eye Street, NW., Washington DC 20006.

SUPPLEMENTARY INFORMATION:

A. Need for and Use of the Information Collection

Section 10b of the Federal Home Loan Bank Act (Bank Act) (12 U.S.C. 1430b) authorizes the Federal Home Loan Banks (Banks) to make advances under certain circumstances to certified nonmember mortgagees. The FHFA refers to nonmember mortgagees as housing associates. In order to be certified as a housing associate, an applicant must meet the eligibility requirements set forth in section 10b of the Bank Act. Part 926 of the former Federal Housing Finance Board regulations ¹ (12 CFR part 926) implements the statutory eligibility requirements and establishes uniform review criteria an applicant must meet in order to be certified as a housing associate by a Bank. More specifically, §§ 926.3 and 926.4 (12 CFR 926.3-926.4) implement the statutory eligibility requirements and provide guidance to an applicant on how it may satisfy such requirements. Section 926.5 (12 CFR 926.5) authorizes the Banks to approve or deny all applications for certification as a housing associate, subject to the statutory and regulatory requirements. Section 926.6 (12 CFR 926.6) permits an applicant to appeal a Bank decision to deny certification to the FHFA.

¹ Effective July 30, 2008, Division A of the Housing and Economic Recovery Act of 2008, Public Law 110-289, 122 Stat. 2654 (2008), titled the Federal Housing Finance Regulatory Reform Act of 2008 (Reform Act), created the FHFA as an independent agency of the federal government. The Reform Act transferred supervisory and oversight responsibilities over Fannie Mae, Freddie Mac, the Banks, and the Bank's Office of Finance from the Office of Federal Housing Enterprise Oversight (OFHEO) and the Federal Housing Finance Board to the FHFA. Fannie Mae, Freddie Mac, and the Banks continue to operate under rules, regulations, orders, resolutions, and determinations promulgated by OFHEO and the Finance Board until they are modified, terminated, set aside, or superseded by the FHFA. See Pub. L. 110-289, 122 Stat. 2795 and 2798 (codified at 12 U.S.C. 4511 note).

Section 950.17 of the former Finance Board regulations (12 CFR 950.17) establishes the terms and conditions under which a Bank may make advances to a certified housing associate. Section 950.17 also imposes a continuing obligation on a housing associate to provide information necessary to determine if it remains in compliance with applicable statutory and regulatory requirements.

The information collection contained in 12 CFR 926.1 through 926.6 and 950.17 is necessary to enable the Banks to determine whether an applicant satisfies the statutory and regulatory requirements to be certified initially and maintain its status as a housing associate eligible to receive Bank advances. The FHFA requires and uses the information collection to determine whether to uphold or overrule a Bank decision to deny housing associate certification to an applicant.

The OMB control number for the information collection, which expires on December 31, 2008, is 2590-0001. The likely respondents include applicants for housing associate certification and current housing associates.

B. Burden Estimate

The FHFA estimates the total annual average number of applicants at one, with one response per applicant. The estimate for the average hours per application is 10 hours. The estimate for the annual hour burden for applicants is 10 hours (1 applicant × 1 response per applicant × 10 hours).

The Finance Board estimates the total annual average number of maintenance respondents, that is, certified housing associates, at 64, with 1 response per housing associate. The estimate for the average hours per maintenance response is 0.5 hours. The estimate for the annual hour burden for certified housing associates is 32 hours (64 certified housing associates × 1 response per associate × 0.5 hours).

The estimate for the total annual hour burden is 42 hours (64 housing associates × 1 response per associate × 0.5 hours + 1 applicant × 1 response per applicant × 10 hours).

C. Comment Request

The FHFA requests written comments on the following: (1) Whether the collection of information is necessary for the proper performance of FHFA functions, including whether the information has practical utility; (2) the accuracy of the FHFA estimates of the burdens of the collection of information; (3) ways to enhance the quality, utility, and clarity of the information collected; and (4) ways to minimize the burden of the collection of information on applicants and housing associates, including through the use of automated collection techniques or other forms of information technology.

Dated: December 19, 2008.
James B. Lockhart,
Director, Federal Housing Finance Agency.

[FR Doc. E8-30814 Filed 12-24-08; 8:45 am]

BILLING CODE 8070-01-P